DEPARTMENT OF JUSTICE

Notice of Lodging of Consent Decree Under the Clean Air Act, the Clean Water Act and the Resource Conservation and Recovery Act

Under 28 C.F.R. 50.7, notice is hereby given that on February 14, 2003, a proposed consent decree (“consent decree”) in United States v. Chicago Specialties, L.L.C., Civil Action No. 03C 0864, was lodged with the United States District Court for the Northern District of Illinois. This consent decree resolves claims against Chicago Specialties, L.L.C., for violations of the Clean Air Act, the Clean Water Act and the Resource Conservation and Recovery Act.

In this action the United States sought penalties and injunctive relief for violations under the Clean Air Act of the Illinois State Implementation Plan (the “SIP”), violations of the National Emission Standards for Organic Hazardous Air Pollutants from the Synthetic Organic Chemical Manufacturing Industry (“HON” or “HON regulations”), 40 CFR part 63, subparts F, G and H, violations of the Spill Prevention, Control and Countermeasures (“SPCC”) standards, 40 CFR 112.7, and violations of RCRA waste-handling and record-keeping requirements in Illinois' EPA-authorized program. Under the terms of the consent decrees, Chicago Specialties agrees to shutdown its paracresol process, perform supplemental environmental projects (SEPs) valued at $310,000, pay $100,000 in civil penalties (half to the United States and half to the State of Illinois) and reimburse the State of Illinois for $71,000 in costs incurred in connection with the Facility. The decision to shutdown the paracresol process was a business decision made by Chicago Specialties, as an alternative to installing pollution controls.

The Department of Justice will receive for a period of 30 days from the date of this publication comments relating to the consent decrees. Comments should be addressed to the Assistant Attorney General, Environment and Natural Resources Division, P.O. Box 7611, U.S. Department of Justice, Washington, DC 20044-7611, and should refer to United States v. Chicago Specialties, L.L.C., Civil Action No. 03 C 0864, D.J. Ref. 90-5-2-1-06918.

The consent decrees may be examined at the Office of the United States Attorney, 219 South Dearborn Street, Chicago, Illinois 60604, and at U.S. EPA Region V, 77 West Jackson Blvd., Chicago, Illinois 60604. During the public comment period, the consent decree may also be examined on the following Department of Justice website, http://www.usdoj.gov/enrd/open.html. A copy of the consent decree may also be obtained by mail from the Consent Decree Library, P.O. Box 7611, U.S. Department of Justice, Washington, DC 20044-7611 or by faxing or e-mailing a request to Tonia Fleetwood (tonia.fleetwood@usdop.gov), fax no (202) 514-0097, phone confirmation number (202) 514-1547. In requesting a copy of the consent decree, please enclose a check in the amount of $53.50 (25 cents per page reproduction cost) payable tot he U.S. Treasury for the consent decree with attachments, or $11.00 for the consent decree without attachments.

William Brighton,
Assistant Section Chief, Environmental Enforcement Section, Environment and Natural Resources Division.

[FR Doc. 03-5190 Filed 3-4-03; 8:45 am]

BILLING CODE 4410-15-M